CORPORATION FOR NATIONAL AND COMMUNITY SERVICE

Agency Information Collection Activities; Submission to the Office of Management and Budget for Review and Approval; Comment Request; Application Package for the Grantee Progress Report (GPR) Data Collection.; Proposed Information Collection; Comment Request

AGENCY: Corporation for National and Community Service.

ACTION: Notice.

SUMMARY: The Corporation for National and Community Service (CNCS) has submitted a public information collection request (ICR) entitled Grantee Progress Report (GPR) Data Collection for review and approval in accordance with the Paperwork Reduction Act.

DATES: Comments may be submitted, identified by the title of the information collection activity, by July 19, 2019.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Sarah Yue, at 202-606-6894 or by email to syue@cns.gov. Individuals who use a telecommunications device for the deaf (TTY-TDD) may use our web chat for alternative communication www.NationalService.gov/contact-us.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on 2/26/2019 at Vol. 84, No. 38, p. 6136-6137. This comment period ended 4/29/2019. Two (2) public comments were received from this Notice. In response to the first comment, CNCS changed “100%” to “the level required by policy” per the commentor's suggestion. In response to the second comment, CNCS will explore potential future revisions to the member exit form or exit survey to accommodate additional member-focused indicators.

Title of Collection: Grantee Progress Report (GPR) Data Collection.

OMB Control Number: 3045-0175.

Type of Review: Renewal.

Respondents/Affected Public: Businesses and Organizations; State, Local or Tribal Governments.

Total Estimated Number of Annual Responses: 300 total respondents for AmeriCorps State and National. 52 respondents each for Commission Support Grants and Commission Investment Funds. 20 respondents for Volunteer Generation Fund.

Total Estimated Number of Annual Burden Hours: 4,540.

Abstract: CNCS uses information collected via the Grantee Progress Reports to assess grantee progress toward meeting approved objectives; to identify areas of challenge and opportunity; to guide the allocation of training and technical assistance resources; and to compile portfolio-wide data to report to external stakeholders. CNCS seeks to continue using the currently approved information collection until the revised information collection is approved by OMB. The currently approved information collection is due to expire on April 30, 2020.

Dated: June 5, 2019.
Sarah Yue,
Senior Program and Project Specialist, AmeriCorps State and National.

[FR Doc. 2019-12963 Filed 6-18-19; 8:45 am]

BILLING CODE 6050-28-P